DEPARTMENT OF THE INTERIOR

National Park Service

[NPS-WASO-NAGPRA-NPS0034332; PPWOCRADN0-PCU00RP14.R50000]

Notice To Rescind a Notice of Inventory Completion: Minnesota Indian Affairs Council, Bemidji, MN

AGENCY: National Park Service, Interior.

ACTION: Notice.

SUMMARY: The Minnesota Indian Affairs Council, Bemidji, MN, is rescinding a Notice of Inventory Completion published in the Federal Register on September 11, 2002.

FOR FURTHER INFORMATION CONTACT: Melissa Cerda, Minnesota Indian Affairs Council, 161 St. Anthony Avenue, Suite 919, St. Paul, MN 55103, telephone (651) 276-2797, email melissa.cerda@state.mn.us.

SUPPLEMENTARY INFORMATION: Notice was previously given in accordance with the Native American Graves Protection and Repatriation Act (NAGPRA), 25 U.S.C. 3003, of the completion of an inventory of human remains and associated funerary objects under the control of the Minnesota Indian Affairs Council, Bemidji, MN. The human remains and associated funerary objects were removed from the Warm Springs, Cameron Creek, Galaz, and Hot Springs sites in Grant County, NM.

This notice is published as part of the National Park Service's administrative responsibilities under NAGPRA, 25 U.S.C. 3003(d)(3). The determinations in this notice are the sole responsibility of the institution that has control of the Native American human remains and associated funerary objects. The National Park Service is not responsible for the determinations in this notice.

The Minnesota Indian Council is rescinding a Notice of Inventory Completion published in the Federal Register (67 FR 57623-57624, September 11, 2002). Transfer of control of the items listed in that notice has not occurred.

Rescindment

All paragraphs in the Federal Register notice of September 11, 2002 (67 FR 57623-57624) are deleted in their entirety.

The Minnesota Indian Council is responsible for notifying the Hopi Tribe of Arizona; Pueblo of Acoma, New Mexico; Pueblo of Isleta, New Mexico; Pueblo of Laguna, New Mexico; Pueblo of Pojoaque, New Mexico; Pueblo of San Ildefonso, New Mexico; Pueblo of Taos, New Mexico; and the Zuni Tribe of the Zuni Reservation, New Mexico that this notice has been published.

Dated: August 3, 2022.
Melanie O'Brien,
Manager, National NAGPRA Program.

[FR Doc. 2022-17294 Filed 8-10-22; 8:45 am]

BILLING CODE 4312-52-P